DEPARTMENT OF HEALTH AND HUMAN SERVICES

National Institutes of Health

Submission for OMB Review; 30-Day Comment Request; NIH COVID-19 Vaccination Status Form Extension

AGENCY: National Institutes of Health, Department of Health and Human Services (HHS).

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Dr. Jessica McCormick-Ell, Ph.D., SM (NRCM), CBSP, RBP, NIH/ORS/SR/DOHS, Bldg. 13/3W80, Bethesda, MD, 20892-5760 or call non-toll-free number (301) 496-0590 or email your request, including your address to: jessica.mccormick-ell@nih.gov.

SUPPLEMENTARY INFORMATION: This proposed information collection was previously published in the Federal Register on November 22, 2021 (86 FR 66319), and allowed 60 days for public comment. No public comments were received. The purpose of this notice is to allow an additional 30 days for public comment. The Office of Research Services, National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: NIH COVID-19 Vaccination Status Form, REVISION, 0925-0771, exp., 3/31/2022, Office of Research Services (ORS), National Institutes of Health (NIH).

Need and Use of Information Collection: This revision request includes two new forms as NIH is implementing a building entry protocol where all people, Federal Government employees, contractors, patients, and visitors, will answer questions about COVID exposure every day. The NIH COVID-19 Vaccination Status Form will continue to ensure the safety of the Federal workplace consistent with Executive Order 14042, Ensuring Adequate COVID Safety Protocols for Federal Contractors, Executive Order 14043, Requiring Coronavirus Disease 2019 Vaccination for Federal Employees, the COVID-19 Workplace Safety: Agency Model Safety Principles established by the Safer Federal Workforce Task Force, and guidance from the Centers for Disease Control and Prevention (CDC) and the Occupational Safety and Health Administration (OSHA). The proposed information collection will continue to be used to ensure compliance with vaccination requirements in the authorities above, generate the list of persons required to be tested on a routine basis, and will provide important information regarding safety frameworks, guidance, and procedures.

OMB approval is requested for 3 years. There are no costs to respondents other than their time. The total estimated annualized burden hours are 8,499.

Estimated Annualized Burden Hours
Type of collection | Number of respondents | Number responses per respondent | Average burden per response (in hours) | Total burden hours
NIH COVID-19 Vaccine Status Form | 31,000 | 1 | 5/60 | 2,583
Screening Questionnaire | 35,500 | 1 | 5/60 | 2,958
Building Access Form | 35,500 | 1 | 5/60 | 2,958
Total |  | 102,000 |  | 8,499

Dated: March 9, 2022.
Tara A. Schwetz,
Acting Principal Deputy Director, National Institutes of Health.

[FR Doc. 2022-05475 Filed 3-14-22; 8:45 am]

BILLING CODE 4140-01-P